DEPARTMENT OF AGRICULTURE

Office of the Secretary

7 CFR Subtitles A and B

9 CFR Chapters I, II, and III

Identifying Regulatory Reform Initiatives

AGENCY: Office of the Secretary, USDA.

ACTION: Request for information.

SUMMARY: Pursuant to Executive Order 13777—Enforcing the Regulatory Reform Agenda, the U.S. Department of Agriculture (USDA) is requesting ideas from the public on how we can provide better customer service and remove unintended barriers to participation in our programs in ways that least interfere with our customers and allow us to accomplish our mission. To do this, we are specifically asking for public ideas on regulations, guidance documents, or any other policy documents that are in need of reform, for example ideas to modify, streamline, expand, or repeal those items.

DATES: Comments and information are requested on or before July 17, 2018. USDA will review comments in four batches over a one-year period. The cut-off period for comments to be reviewed as part of the first batch is September 15, 2017. The cut-off period for comments to be reviewed as part of the second batch is November 14, 2017. The cut-off periods for the third and fourth batches are February 12, 2018, and July 17, 2018, respectively.

ADDRESSES: We invite you to submit comments on this notice. For proper delivery, in your comment, specify “Identifying Regulatory Reform Initiatives.”

• Electronic Submission of Comments. You may submit comments electronically through the Federal eRulemaking Portal: http://www.regulations.gov. USDA strongly encourages commenters to submit comments electronically. Electronic submission of comments allows you maximum time to prepare and submit a comment, and ensures timely receipt by USDA. Follow the instructions provided on that site to submit comments electronically.

• Submission of Comments by Mail, Hand delivery, or Courier. Paper, disk, or CD-ROM submissions should be submitted to regulations@obpa.usda.gov, Office of Budget and Program Analysis, USDA, Jamie L. Whitten Building, Room 101-A, 1400 Independence Ave. SW., Washington, DC 20250.

FOR FURTHER INFORMATION CONTACT: Michael Poe, Telephone Number: (202) 720-5303.

SUPPLEMENTARY INFORMATION:

I. Background

A. USDA's Regulatory Mission

USDA is committed to creating a culture of consistent, efficient service to our customers while easing regulatory burdens to make it easier to invest, produce, and build in rural America in a way that creates jobs and economic prosperity while ensuring the safety of our food supply, and protecting and safeguarding our land, water, and other natural resources for future generations.

B. The Regulatory Reform Agenda and Executive Order 13777

On February 24, 2017, President Trump signed Executive Order (E.O.) 13777—Enforcing the Regulatory Reform Agenda, which established a federal policy to alleviate unnecessary regulatory burdens on the American people. Section 3(a) of the E.O. directs federal agencies to establish a Regulatory Reform Task Force (Task Force). One of the duties of the Task Force is to evaluate existing regulations and make recommendations to the USDA Secretary regarding their repeal, replacement, or modification. The E.O. further asks that each Task Force attempt to identify regulations that:

(i) Eliminate jobs, or inhibit job creation;

(ii) Are outdated, unnecessary, or ineffective;

(iii) Impose costs that exceed benefits;

(iv) Create a serious inconsistency or otherwise interfere with regulatory reform initiatives and policies;

(v) Are inconsistent with the requirements of section 515 of the Treasury and General Government Appropriates Act, 2001 (44 U.S.C. 3516 note), or the guidance issued pursuant to that provision in particular those regulations that rely in whole or in part on data, information, or methods that are not publicly available or that are insufficiently transparent to meet the standard of reproducibility; or

(vi) Derive from or implement Executive Orders or other Presidential directives that have been subsequently rescinded or substantially modified.

II. USDA's Implementation of Executive Order 13777

Section 3(e) of the E.O. calls on the Task Force to seek input and other assistance, as permitted by law, from entities significantly affected by Federal regulations, including State, local, and tribal governments, small businesses, consumers, non-governmental organizations, and trade associations on regulations that meet some or all of the criteria above. Through this notice, USDA is requesting ideas from the public to help its Task Force's evaluation of existing regulations. USDA requests that commenters be as specific as possible, include any supporting data or other information such as cost information, provide a Federal Register (FR) or Code of Federal Regulations (CFR) citation when referencing a regulation or directive, the OMB control number for information collections and recordkeeping burdens approved under the Paperwork Reduction Act of 1995 (44 U.S.C. 3501-3522), and specific suggestions regarding the repeal, replacement or modification of these items.

In evaluating USDA's regulations, guidance documents, or any other policy documents that are in need of reform as well as new ideas to modify, streamline, expand, or repeal such items, commenters are asked to consider the questions outlined below. Note this is not an exhaustive list nor is it intended to limit the issues that commenters may address, but rather it is meant to assist in the formulation of comments.

1. Are there any regulations that should be repealed, replaced, or modified?

2. For each regulation identified in question number 1, please identify whether the regulation:

(a) Results in the elimination of jobs, or inhibits job creation;

(b) Is outdated, unnecessary, or ineffective;

(c) Imposes costs that exceed benefits;

(d) Creates a serious inconsistency or otherwise interferes with regulatory reform initiatives and policies;

(e) Is inconsistent with the requirements or regulations of section 515 of the Treasury and General Government Appropriations Act, 2001 (44 U.S.C. 3516 note), which requires that agencies maximize the quality, objectivity, and integrity of the information (including statistical information) they disseminate; or

(f) Derives from or implements Executive Orders or other Presidential directives that have been subsequently rescinded or substantially modified.

3. Are there any existing USDA requirements that duplicate or conflict with requirements of another Federal agency? Can the requirement be modified to eliminate the conflict?

4. What are the estimated total compliance costs of the USDA regulations to which you or your organization must comply? This should include the costs of complying with information collections, recordkeeping, and other requirements subject to the Paperwork Reduction Act.

This notice is issued for information and program-planning purposes. While comments to this notice do not bind USDA to any further actions, all submissions will be reviewed by the Task Force, and made publicly available on http://www.regulations.gov. Although USDA will not respond to individual comments, USDA values public feedback and will give careful consideration to all input that it receives.

USDA will keep the public apprised of the status of its review and any plans to repeal, replace, or modify existing regulations. The Department will issue a detailed update as part of the 2017 fall regulatory agenda and statement of regulatory priorities. Additionally, the public is encouraged to visit https://www.usda.gov/ for the latest information about the Department's regulatory reform efforts.

Dated: July 11, 2017.
Rebeckah Adcock,
Regulatory Reform Officer and Senior Advisor to the Secretary, Office of the Secretary.

[FR Doc. 2017-14920 Filed 7-14-17; 8:45 am]

BILLING CODE 3410-90-P